FEDERAL COMMUNICATIONS COMMISSION

[DA 01-903]

Annual Adjustment of Revenue Threshold

AGENCY: Federal Communications Commission.

ACTION: Notice.

SUMMARY: This notice announces that the 2000 revenue threshold used for classifying carriers for various accounting and reporting purposes is increased to $117 million. The 1996 Act mandates that the Commission adjusts the revenue threshold annually to reflect the effect of inflation.

DATES: Carriers exceeding the 2000 revenue threshold must file their initial cost allocation manual by July 16, 2001.

ADDRESSES: Federal Communications Commission, 445-12th Street, SW, Room TW-A325, Washington, D.C. 20554.

FOR FURTHER INFORMATION CONTACT: Debbie Weber, Accounting Systems Branch, Accounting Safeguards Division, Common Carrier Bureau at (202) 418-0812.

SUPPLEMENTARY INFORMATION: This gives notice that the annual revenue threshold used for classifying carriers for various accounting and reporting purposes is increased to $117 million. Section 402(c) of the 1996 Act mandates that we adjust this revenue threshold annually to reflect the effects of inflation since October 19, 1992, at which time the threshold was $100 million. In accordance with the Act, we adjust the threshold based on the ratio of the gross domestic product chain-type price index (GDP-CPI) in the revenue year and the GDP-CPI for October 19,1992. The revenue threshold for 2000 was determined as follows:

(1) October 19, 1992 GDP-CPI—91.62

(2) 2000 GDP-CPI—106.99

(3) Inflation Factor (line 2÷line 1)—1.1678

(4) Original Revenue Threshold—$100 million

(5) 2000 Revenue Threshold (line 3 * line 4)—$117 million

Federal Communications Commission.
Kenneth P. Moran,
Chief, Accounting Safeguards Division.

[FR Doc. 01-9326 Filed 4-13-01; 8:45 am]

BILLING CODE 6712-01-P